DEPARTMENT OF TRANSPORTATION

Coast Guard

33 CFR Part 157

[USCG 2001-10298]

Double Hull Standards for Vessels Carrying Oil in Bulk; U.S. Position on the Amendment of International Standards for the Phase-Out of Existing Single Hull Tank Vessels

AGENCY: Coast Guard, DOT.

ACTION: Notice of meeting; request for comments.

SUMMARY: The Coast Guard will hold a public meeting to discuss the amendment of international standards for the phase-out of oil transportation service for existing single hull tank vessels in international trade that were developed and adopted by the International Maritime Organization (IMO) in April 2001. At the IMO meeting, the U.S. reserved its position on adoption of this amendment to regulation 13G of Annex I to the International Convention for Pollution Prevention from Ships, 1973, as amended by the Protocol of 1978 (MARPOL 73/78). The U.S. reserved its position due to technical differences with the mandated requirements for the phase-out of existing single hull tank vessel requirements of the Oil Pollution Act of 1990 (OPA 90). This public meeting will be used to collect comments and information from the public and industry to develop a final U.S. position to be formally presented to IMO on this matter. The Coast Guard encourages interested parties to attend the meeting and submit comments for discussion during the meeting. In addition the Coast Guard seeks written comments from any party who is unable to attend the meeting.

DATES: We will hold the meeting on Tuesday, 25 September 2001, from 9:30 a.m. to 12 p.m. Comments and related material for the public meeting must reach the Docket Management Facility on or before September 1, 2001. Any other written comments or related material must reach the Docket Management Facility on or before September 28, 2001, to be considered under this notice.

ADDRESSES: We will hold the meeting at the U.S. Coast Guard Headquarters Transpoint Building, room 2415, 2100 Second Street SW., Washington, DC 20593-0001. The telephone number is 202-267-1181. To ensure that your comments and related material are not entered more than once in the docket, please submit them by only one of the following means:

(1) By mail to the Docket Management Facility, U.S. Department of Transportation, room PL-401, 400 Seventh Street SW., Washington, DC 20590-0001.

(2) By delivery to room PL-401, on the Plaza level of the Nassif Building, 400 Seventh Street SW., Washington, DC, between 9 a.m. and 5 p.m., Monday through Friday, except Federal holidays. The telephone number is 202-366-9329.

(3) Electronically through the Web Site for the Docket Management System at http://dms.dot.gov.

(4) By Fax to the Docket Management Facility: 202-493-2251

The Docket Management Facility maintains the public docket for this notice. Comments and material received from the public, as well as documents mentioned in this preamble as being available in the docket, will become part of this docket and will be available for inspection or copying at room PL-401 on the Plaza level of the Nassif Building at the same address, between 9 a.m. and 5 p.m., Monday through Friday, except Federal holidays. You may also find this docket on the Internet at http://dms.dot.gov.

FOR FURTHER INFORMATION CONTACT: For information concerning this notice or the public meeting, contact Mr. Bob Gauvin, Project Manager, Vessel and Facility Operating Standards Division (G-MSO-2), U.S. Coast Guard Headquarters, 2100 Second Street SW., Washington, DC 20593-0001, telephone 202-267-1053. For questions on viewing or submitting material to the docket, call Dorothy Beard, Chief, Dockets, Department of Transportation, telephone 202-366-5149.

Request for Comments

We encourage you to participate by submitting comments and related material. If you do so, please include your name and address, identify the docket number (USCG-2000-10298), indicate the specific proposed change to which each comment applies, and give the reason for each comment. You may submit your comments and materials by mail or hand delivery. Submit them in an unbound format, no larger than 8/½ x 11 inches, suitable for copying and electronic filing. If you submit them by mail and would like confirmation of receipt, please enclose a stamped, self-addressed postcard or envelope. We will consider all comments and material received on or before October 3, 2001.

SUPPLEMENTARY INFORMATION:

How Can I Get Additional Information, Including Copies of This Notice or Other Related Documents?

The Docket Management Facility maintains the public docket for this notice. The docket number for this notice is (USCG 2001-10298). Comments and other documents related to this notice will become part of this docket and will be available for inspection or copying as follows:

• In person: You may access the docket room PL-401, on the Plaza Level of the Nassif Building at the same address, between 9 a.m. and 5 p.m., Monday through Friday. The facility is closed on Federal holidays.

• Electronically: You may access the docket on the Internet at http://dms.dot.gov.

Where Can I Get Information on Service for Individuals With Disabilities?

To obtain information on facilities or services for individuals with disabilities or to request that we provide special assistance at the public meeting, please contact Mr. Bob Gauvin as soon as possible. You will find his address and phone number in the FOR FURTHER INFORMATION CONTACT section of this notice.

Why Is the Coast Guard Holding This Public Meeting?

Pursuant to OPA 90, the Coast Guard published an Interim Final Rule (IFR) on March 12, 1992, entitled Double Hull Standards for Vessels Carrying Oil in Bulk (57 FR 36222). The IFR, established technical standards for double hulls on vessels carrying oil in bulk, as cargo or cargo residue that are constructed or undergo a major conversion under contracts awarded after June 30, 1990. The IFR also included a phase-out schedule for existing single hull tank vessels. The IFR amends sections of 33 CFR part 157 for the technical standards of double hulls, and added Appendix G at the end of the part with the phase-out schedule for existing single hull tank vessels from OPA 90. On March 6, 1992, the 32nd session of the IMO's Marine Environmental Protection Committee (MEPC 32), adopted regulations 13F and 13G to Annex I of the MARPOL 73/78. Regulation 13F requires that new tank vessels be designed and constructed with a double hull, mid-deck configuration or other approved hull configuration. Regulation 13F is applicable to new tank vessels of 600 deadweight tons (DWT) and over, contracted on or after July 6, 1993, or which are delivered on or after July 6, 1996. Regulations 13G, established a phase-out schedule which began on July 6, 1995, for existing single hull tank vessels to be removed from oil transportation service or converted with a double hull, mid-deck configuration or other approved hull configuration. Regulation 13G is applicable to existing crude oil and persistent oil carriers of 20,000 DWT or over, or product carriers of 30,000 DWT or over. Copies of Regulations 13F and 13G have been placed in the docket on December 23, 1992, the U.S. Embassy in London deposited a declaration with IMO stating that the express approval of the U.S. Government would be necessary before regulations 13F and 13G of MARPOL 73/78 would enter into force for the U.S. In this declaration, the U.S. cited the technical differences between MARPOL amendments for new and existing tank vessels, and OPA 90 mandatory standards for tank vessels. Since the deposit of the declaration in 1992, the U.S. has not amended its position at IMO regarding regulations 13F and 13G.

On April 27, 2001, the 46th session of the IMO's MEPC (MEPC 46) adopted Resolution MEPC.95(46), “Amendments to the Annex of the Protocol of 1978 Relating to the International Convention for the Prevention of Pollution From Ships, 1973”, (amendments to regulation 13G of Annex I to MARPOL 73/78 and to the Supplement of the International Oil Pollution Preventions (IOPP) Certificate). Resolution MEPC.95(46) amends the original phase-out requirements for existing single hull tank vessels in regulation 13G of MARPOL Annex I. The amendments affect existing single hull tank vessels of 5000 DWT and over, by reducing the time allowed before phasing-out existing single hull tank vessels. A copy of Resolution MEPC.95(46) has been placed in the docket.

The amendments were adopted in accordance with the tacit amendment procedure allowed under Article 16 of MARPOL 73/78. As a signatory to MARPOL 73/78, the U.S. would be deemed to have accepted these amendments unless we advise IMO otherwise by March 1, 2002.

At the resolution's introduction during MEPC 46, the U.S. delegation verbally reserved its position on the resolution as the U.S. had formally declared a position that an expressed approval by the U.S. would be required before regulation 13G would be accepted as part of MARPOL 73/78, in 1992. The U.S. again reiterated that there were technical differences between the mandatory phase-out schedule of OPA 90 and Resolution MEPC.95(46) that would require a further review prior to a formal position being declared by the U.S.

This public meeting is being held to give the public an opportunity to express their opinions on Resolution MEPC.95(46) prior to the U.S. developing a final policy regarding the acceptance and enforcement of this amendment of regulation 13G of Annex I of MARPOL. The Coast Guard is holding this meeting to discuss the resolution and answer any questions regarding its effects upon its potential formal adoption as part of Annex I of MARPOL 73/78 in March 2002. The Coast Guard intends to listen to the public's concerns and collect related submitted comments before and during this meeting for use in developing the U.S. position regarding any actions or formal declaration being made to IMO regarding the adoption of Resolution MEPC.95(46).

What Issues Should I Discuss at the Meeting or Address in Written Comments?

The public meeting on September 25, 2001, will provide a forum for members of industry and the public to discuss Resolution MEPC.95(46) and its impact of U.S. concerns and the enforcement of OPA 90. OPA 90 mandates a phase-out of all sizes of existing single hull tank vessels constructed or having major conversions after June 30, 1990. OPA 90 is not limited in the size of single tank vessels it effects and does not parallel the phase-out schedule documented in Resolution MEPC.95(46). Specific questions the Coast Guard is interested to see answered in the written or verbal comments are:

1. Should the acceptance of MEPC resolution to amend regulation 13G of Annex I, MARPOL 73/78 be supported, or not supported by the U.S. as a signatory to the convention?

2. As written, what would be the effect of the new MARPOL phase-out schedule on U.S. flag vessels in international trade?

3. What positive and negative economic effects could the adoption of the new amendments to regulation 13G of Annex I of MARPOL have on the transportation of oil in the U.S.?

4. What positive and negative economic effects could the adoption of the new amendments of regulation 13G have on the transportation of oil worldwide?

5. What positive and negative environmental effects could the adoption of the new amendments of regulation 13G have worldwide or in the U.S.?

6. Are there specific parts of the resolution that could be accepted by the U.S., if the resolution as a whole could not be supported for acceptance as written?

7. Should the U.S. Coast Guard make any legislative proposals to the U.S. Congress to amend U.S. law to enforce the new amendments to regulation 13G in U.S. waters?

8. Are there any amendments to Resolution MEPC.95(46), as written, that should be required before the U.S. could support it?

Interested parties who cannot attend the meeting are strongly encouraged to submit issues to the docket for discussion at the meeting prior to September 1, 2001.

What Is the Agenda for the Public Meeting?

The agenda for the meeting on September 25, 2001, is as follows:

• Introduction and Overview of meeting rules;

• Presentation and discussion of present standards for tank vessel phase-out and areas of concern regarding the resolution's impact on those standards;

• Presentation of written statements or comments submitted to the docket prior to the meeting;

• Listening session, verbal comments presented by attending members of the public and industry; and

• Closing statements and possible next steps by the Coast Guard and the U.S. at IMO.

Dated: July 27, 2001.
Joseph J. Angelo,
Director of Standards, Marine Safety and Environmental Protection.

[FR Doc. 01-20150 Filed 8-9-01; 8:45 am]

BILLING CODE 4910-15-P